DEPARTMENT OF COMMERCE

National Oceanic and Atmospheric Administration

[I.D. 111204A]

Pacific Fishery Management Council; Notice of Public Meeting

AGENCY: National Marine Fisheries Service (NMFS), National Oceanic and Atmospheric Administration (NOAA), Commerce.

ACTION: Notice of the Pacific Fishery Management Council's Ad Hoc Groundfish Habitat Technical Review Committee.

SUMMARY: The Pacific Fishery Management Council's (Council) Ad Hoc Groundfish Habitat Technical Review Committee will hold a working meeting on December 7-8, 2004. The meeting is open to the public.

DATES: The Ad Hoc Groundfish Habitat Technical Review Committee working meeting will begin Tuesday, December 7, 2004, at 10 a.m. and may go into the evening until business for the day is completed. The meeting will reconvene from 8-4 p.m., Wednesday, December 8, 2004.

ADDRESSES: The meeting will be at the following address: Hotel Vintage Plaza, Burgundy Room, 422 SW Broadway Avenue, Portland, OR 97205, telephone 800-243-0555.

Council address: Pacific Fishery Management Council, 7700 NE Ambassador Place, Suite 200, Portland, OR, 97220-1384.

FOR FURTHER INFORMATION CONTACT: Dr. Christopher Dahl, National Environmental Policy Analyst, 503-820-2280.

SUPPLEMENTARY INFORMATION: The purpose of the Ad Hoc Groundfish Habitat Technical Review Committee meeting is to provide a technical review of the range of alternatives in a preliminary draft Environmental Impact Statement to designate and conserve Essential Fish Habitat for Pacific Coast groundfish. By holding a public meeting, the committee will provide opportunity for public participation in the review process. The committee will only consider technical and scientific questions and will not engage in policy discussions as part of its mission.

Although non-emergency issues not contained in this notice may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

The meetings are physically accessible to people with disabilities. Requests for sign language interpretation or other auxiliary aids should be directed to Ms. Carolyn Porter at 503-820-2280 at least 7 days prior to the meeting date.

Dated: November 12, 2004.
Bruce C. Morehead,
Acting Director, Office of Sustainable Fisheries, National Marine Fisheries Service.

[FR Doc. 04-25525 Filed 11-16-04; 8:45 am]

BILLING CODE 3510-22-S